DEPARTMENT OF THE INTERIOR

National Park Service

Federal Land Managers' Air Quality Related Values Work Group (FLAG)

AGENCY: National Park Service, Interior.

ACTION: Notice of availability of final report.

SUMMARY: On July 8, 2008 (FR39039), the National Park Service, in cooperation with the U.S. Fish and Wildlife Service and the U.S. Department of Agriculture Forest Service, announced the availability of, and solicited comments on, the draft FLAG Phase I Report—REVISED. The purpose of this notice is to announce the availability of the final revised FLAG report, and the accompanying Response to Public Comments document.

The Federal Land Managers' Air Quality Related Values Work Group (FLAG) was formed (1) to develop a more consistent and objective approach for the Federal Land Managers (FLMs), i.e., National Park Service, U.S. Fish and Wildlife Service, and U.S. Department of Agriculture Forest Service (the Agencies), to evaluate air pollution effects on their air quality related values (AQRVs); and (2) to provide State permitting authorities and potential permit applicants consistency on how to assess the impacts of new and existing sources on AQRVs. The FLAG effort focuses on the effects of the air pollutants that could affect the health and status of resources in areas managed by the three agencies, primarily such pollutants as ozone, particulate matter, nitrogen dioxide, sulfur dioxide, nitrates, and sulfates. FLAG formed subgroups that concentrated on four issues: (1) Terrestrial effects of ozone; (2) aquatic and terrestrial effects of wet and dry pollutant deposition; (3) visibility; and (4) process and policy issues. In December 2000, after undergoing a public review and comment process that included a 90-day public comment period announced in the Federal Register and a public meeting, the FLMs published a final Phase I report (FLAG 2000), along with an accompanying “Response to Public Comments” document.

FLAG 2000 has been a useful tool to the FLMs, State permitting authorities, and permit applicants. It was intended to be a working document that would be revised as necessary as the FLMs learn more about how to better assess the health and status of AQRVs. Based on knowledge gained and regulatory developments since FLAG 2000, the FLMs believe certain revisions to FLAG 2000 are now appropriate. The final revised report reflects those changes.

During the 60-day public comment period on the draft report, the Agencies received 22 comment letters from various constituencies (e.g., State air regulatory agencies, concerned citizens, environmental groups, industry representatives, Tribal representatives). These commenters raised specific concerns, and many supported the proposed revisions in general and thought that the changes were warranted and helpful. The Agencies considered all comments received and revised the draft FLAG report accordingly. The Agencies also prepared an accompanying “Response to Public Comments” document that discusses the public comments and provides the Agencies' rationale for accepting or rejecting the comment. The Agencies did not make any major technical or policy changes from the draft revised report. However, we made some editorial changes and inserted clarifying language as a result of comments received, and reformatted the report to make it more reader friendly.

ADDRESSES: A copy of the final FLAG Phase I Report—REVISED and the accompanying Response to Public Comments document can be downloaded from the Internet at: http://www.nature.nps.gov/air/permits/flag/index.cfm.

A copy can also be obtained from John Bunyak, Air Resources Division, National Park Service, P.O. Box 25287, Denver, Colorado 80225; e-mail: john_bunyak@nps.gov.

FOR FURTHER INFORMATION CONTACT: John Bunyak at the above address or by calling (303) 969-2818.

Dated: September 8, 2010.
Thomas L. Strickland,
Assistant Secretary for Fish and Wildlife and Parks, Department of the Interior.

[FR Doc. 2010-27211 Filed 10-26-10; 8:45 am]

BILLING CODE P